DEPARTMENT OF HEALTH AND HUMAN SERVICES

National Committee on Vital and Health Statistics: Teleconference

Pursuant to the Federal Advisory Committee Act, the Department of Health and Human Services (HHS) announces the following advisory committee meeting to be held virtually.

Name: National Committee on Vital and Health Statistics (NCVHS), Full Committee Virtual Meeting.

Dates and Times: Tuesday, April 18, 2017: 3:00 p.m.-5:00 p.m. (EDT).

Place: Teleconference—scheduled to begin at 3:00 p.m. Eastern Daylight Savings Time. To participate in the virtual meeting, please use the following URL http://www.ncvhs.hhs.gov/ that points to the NCVHS homepage. Further information and meeting agenda will be available on the NCVHS Web site including instructions for accessing the live meeting broadcast.

Status: Open by teleconference. There will be an open comment period during the final 15 minutes of the virtual meeting.

Purpose: The purpose of this NCVHS virtual meeting is to discuss and as appropriate take action on: (1) NCVHS 12th Report to Congress; (2) letter assessing HealthData.gov, its early successes and recommendations for maximizing its value; and (3) letter focused on opportunities and approaches that HHS could employ to improve state, county, and local health officials' ability to measure the health of their populations at the community-level. The Committee also will continue discussion in follow up to its June 2016 meeting on claims-based databases for policy development and evaluation, including All-Payer Claims Databases.

Contact Person for more Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the NCVHS Web site: http://www.ncvhs.hhs.gov/, where further information including an agenda and instructions to access the audio broadcast of the meeting will be posted.

Dated: March 2, 2017.
Laina Bush,
Deputy Assistant Secretary for Planning and Evaluation, Office of the Assistant Secretary for Planning and Evaluation.

[FR Doc. 2017-04740 Filed 3-9-17; 8:45 am]

BILLING CODE 4151-05-P